DEPARTMENT OF ENERGY

Federal Energy Regulatory Commission

Notice of Exemption Application Accepted for Filing and Soliciting Motions To Intervene and Protests

March 2, 2005.

Take notice that the following hydroelectric exemption application has been filed with the Commission and is available for public inspection.

a. Type of Application: Exemption of a Major Hydropower Project 5 MW or Less.

b. Project: West Valley A&B Hydro Project No. 12053-001.

c. Date Filed: July 18, 2003.

d. Applicant: Mr. Nicholas Josten.

e. Location: On the South Fork of the Pit River in Modoc County, California. The project would be located on approximated 31 acres of federal lands, managed by Forest Service and Bureau of Land Management.

f. Filed Pursuant to: Public Utility Regulatory Policies Act of 1978, 16 U.S.C. 2705, 2708.

g. Applicant Contact: Mr. Nicholas Josten, 2742 St Charles Ave, Idaho Falls, ID 83404.

h. FERC Contact: Susan O'Brien, (202) 502-8449 or susan.obrien@ferc.gov.

i. Deadline for filing motions to intervene and protests: May 2, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's web site (http://www.ferc.gov) under the “e-Filing” link.

j. This application has been accepted for filing, but is not ready for environmental analysis at this time.

k. The proposed project would consist of two developments, West Valley A and West Valley Alternative B-1. Alternative B-2 has been deleted from the proposed project (applicant's response to deficiencies, filed October 25, 2004).

West Valley A run-of river development would have a capacity of 1.0 MW and consists of: (1) An existing concrete diversion structure; (2) an existing intake structure; (3) 11,600 feet of open canal; (4) a proposed concrete overflow structure; (5) a proposed 2,800 feet of new canal; (6) a proposed penstock; (7) a proposed powerhouse; (8) a proposed tailrace pipe; (9) a proposed transmission line; and (10) appurtenant facilities. The applicant estimates that the total average annual generation would be 3,300,000 kWh.

West Valley Alternative B-1 run-of-river development would have a capacity of 1.36 MW and consists of: (1) The existing West Valley Dam and outlet works; (2) a new bypass valve attached to the existing dam outlet pipe; (3) a proposed penstock; (4) a proposed powerhouse; (5) a proposed tailrace canal; (6) a proposed transmission line; and (7) appurtenant facilities. The applicant estimates that the total average annual generation would be 4,730,000 kWh.

l. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item g. above.

You may also register online at http://www.ferc.gov/docs-filing/esubscription.asp to be notified via e-mail of new filings and issuances related to this or other pending projects. For assistance, contact FERC Online Support.

m. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

n. Procedural Schedule: The application will be processed according to the following Hydro Licensing Schedule. Revisions to the schedule will be made as appropriate.

Issue Scoping Document: April 2005

Scoping Meetings and Site Visit: May 2005

Scoping Comments due: June 2005

Notice that application is ready for environmental analysis: June 2005

Notice of the availability of the EA: October 2005

Ready for Commission decision on the application: January 2006

Linda Mitry,
Deputy Secretary.

[FR Doc. E5-958 Filed 3-7-05; 8:45 am]

BILLING CODE 6717-01-P